DEPARTMENT OF LABOR

Office of the Assistant Secretary for Veterans' Employment and Training

The Advisory Committee on Veterans' Employment, Training and Employer Outreach (ACVETEO); Notice of Open Meeting

The Advisory Committee on Veterans' Employment, Training and Employer Outreach (ACVETEO) was established pursuant to Title II of the Veterans' Housing Opportunity and Benefits Improvement Act of 2006 (Pub. L. 109-233) and Section 9 of the Federal Advisory Committee Act (FACA) (Pub. L. 92-462, Title 5 U.S.C. app. II). The authority of the ACVETEO is codified in Title 38 U.S. Code, Section 4110.

The ACVETEO is responsible for assessing employment and training needs of veterans; determining the extent to which the programs and activities of the U.S. Department of Labor meet these needs; and assisting to conduct outreach to employers seeking to hire veterans. The ACVETEO will conduct a business meeting on Wednesday, October 22, from 7:30 a.m. to 2 p.m., at the offices of The Home Depot, USA, at 2455 Paces Ferry Road, C-21 Large Conference Room, Atlanta, Georgia. The ACVETEO will discuss programs to assist veterans seeking employment and to raise employer awareness as to the advantages of hiring veterans, with special emphasis on employer outreach and wounded and injured veterans.

Individuals needing special accommodations should notify Bill Offutt at (202) 693-4717 by October 13, 2008.

Signed in Washington, DC, this 19th day of September, 2008.
Charles S. Ciccolella,
Assistant Secretary, Veterans' Employment and Training Service.

[FR Doc. E8-22514 Filed 9-24-08; 8:45 am]

BILLING CODE 4510-79-P